DEPARTMENT OF TRANSPORTATION

Federal Aviation Administration

Notice of Intent To Rule on Request To Release Airport Property at the Dubois Regional Airport, Reynoldsville, Pennsylvania

AGENCY: Federal Aviation Administration (FAA) DOT.

ACTION: Notice of request to release airport property.

SUMMARY: The FAA proposes to rule and invite public comment on the release of land at the Dubois Regional Airport, Reynoldsville, Pennsylvania under the provision 49 U.P.C. 47125(a).

DATES: Comments must be received on or before January 2, 2015.

ADDRESSES: Comments on this application may be mailed or delivered to the following address: Robert W. Shaffer, Airport Manager, Dubois Regional Airport, 377 Aviation Way, Reynoldsville, Pennsylvania 15851; and at the FAA Harrisburg Airports District Office: Lori K. Pagnanelli, Manager, Harrisburg Airports District Office, 3905 Hartzdale Dr., Suite 508, Camp Hill, PA 17011.

FOR FURTHER INFORMATION CONTACT: Charles Trice, Civil Engineer, Harrisburg Airports District Office, location listed above.

The request to release property may be reviewed in person at this same location.

SUPPLEMENTARY INFORMATION: The FAA invites public comment on the request to release airport property at the Dubois Regional Airport under the provisions of Section 47125(a) of Title 49 U.S.C. On November 24, 2014, the FAA determined that the request to release airport property at the Dubois Regional Airport (DUJ), Pennsylvania, submitted by the Clearfield-Jefferson Counties Regional Airport Authority (Authority), met the procedural requirements.

The following is a brief overview of the request: The Authority requests the release of two parcels of non-aeronautical airport property totaling approximately 10.26 acres. Both parcels are located in Washington Township, and were originally included as part of a larger 53.5-acre property purchased with federal funds in 1988, under AIP Grant No. 3-24-0023-05-88. A total of 10.26 acres are no longer needed for aeronautical purposes.

The first parcel consists of approximately 5.05 acres, and is requested for release to Cactus Wellhead, LLC (Cactus) of Reynoldsville, Pennsylvania. The property is in the northeast corner of the existing Air Commerce Park adjacent to the Airport, west of Aviation Way, and south of Pennsylvania State Route 830. Cactus is proposing to use the 5.05-acre property to construct a building, a parking lot, and other ancillary facilities in support of its existing operation at the Airport.

The second parcel consists of approximately 5.21 acres, and is requested for release to Corbin Holdings, LLC (Corbin) of Reynoldsville, Pennsylvania. The undeveloped property is the northernmost parcel of obligated property at the Airport, and it is the only airport property located north of State Route 830. As such, it is not contiguous to other airport property, including those parcels which form the Air Commerce Park. There is no plan for development of the subject property. A conservation easement will be included in the deed that will restrict any surface uses other than compatible agricultural or wetland maintenance.

As shown on the Airport Layout Plan, neither property serves an aeronautical purpose, nor are they needed for airport development. All proceeds from the sale of the properties are to be used toward funding the federal share of AIP eligible projects only. Fair Market Value (FMV) rate will be obtained from the land sale of each property.

Any person may inspect the request by appointment at the FAA office address listed above. Interested persons are invited to comment on the proposed lease. All comments will be considered by the FAA to the extent practicable.

Issued in Camp Hill, Pennsylvania, November 24, 2014.
Lori K. Pagnanelli,
Manager, Harrisburg Airports District Office.

[FR Doc. 2014-28360 Filed 12-1-14; 8:45 am]

BILLING CODE 4910-13-P